NATIONAL CREDIT UNION ADMINISTRATION

Sunshine Act: Notice of Agency Meeting

TIME AND DATE: 10:00 a.m., Thursday, May 21, 2020

Recess: 11:30 a.m.

11:45 a.m., Thursday, May 21, 2020.

PLACE: Due to the COVID-19 Pandemic, the meeting will be open to the public via live webcast only. Visit the agency's homepage (www.ncua.gov.) and access the provided webcast link.

STATUS: Parts of this meeting will be open to the public. The rest of the meeting will be closed to the public.

MATTERS TO BE CONSIDERED:

Portions Open to the Public:

1. Board Briefing, Share Insurance Fund Quarterly Report.

2. NCUA Rules and Regulations, Joint Ownership Share Accounts.

3. NCUA Rules and Regulations, Overdraft Policy.

4. NCUA Rules and Regulations, Prompt Corrective Action.

Portions Closed to the Public:

1. Board Appeal. Closed pursuant to Exemption (8).

CONTACT PERSON FOR MORE INFORMATION: Gerard Poliquin, Secretary of the Board, Telephone: 703-518-6304.

Gerard Poliquin,
Secretary of the Board.

[FR Doc. 2020-10729 Filed 5-14-20; 11:15 am]

BILLING CODE 7535-01-P